NATIONAL ARCHIVES AND RECORDS ADMINISTRATION

[NARA-2014-038]

Agency Information Collection Activities: Submission for OMB Review; Comment Request

AGENCY: National Archives and Records Administration (NARA).

ACTION: Notice of information collection renewal request.

SUMMARY: NARA is giving public notice that the agency has submitted to OMB for approval the information collection described in this notice. NARA invites the public to comment on the proposed information collection pursuant to the Paperwork Reduction Act of 1995.

DATES: Written comments must be submitted to OMB at the address below on or before July 21, 2014 to be assured of consideration.

ADDRESSES: Send comments to Mr. Nicholas A. Fraser, Desk Officer for NARA, Office of Management and Budget, New Executive Office Building, Washington, DC 20503; fax: 202-395-5167; or electronically mailed to Nicholas_A._Fraser@omb.eop.gov.

FOR FURTHER INFORMATION CONTACT: Requests for additional information or copies of the proposed information collections and supporting statements should be directed to Tamee Fechhelm at telephone number 301-837-1694 or fax number 301-713-7409.

SUPPLEMENTARY INFORMATION: Pursuant to the Paperwork Reduction Act of 1995 (Pub. L. 104-13), NARA invites the general public and other Federal agencies to comment on proposed information collections. NARA published a notice of proposed collection for this information collection on April 9, 2014 (79 FR 19656 and 19657). No comments were received. NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; (d) ways to minimize the burden of the collection of information on respondents, including the use of information technology; and (e) whether small businesses are affected by this collection. In this notice, NARA is soliciting comments concerning the following information collection:

Title: Order Forms for Genealogical Research in the National Archives.

OMB number: 3095-0027.

Agency form numbers: NATF Forms 84, 85, and 86.

Type of review: Regular.

Affected public: Individuals or households.

Estimated number of respondents: 13,525.

Estimated time per response: 10 minutes.

Frequency of response: On occasion.

Estimated total annual burden hours: 2,254.

Abstract: NARA receives a large volume of requests for these records and needs to obtain specific information from the researcher to search for the sought records. Using a standard form to for the requests and the needed information is necessary for NARA to handle the volume of requests in a timely fashion. As a convenience, the form also allows researchers to provide credit card information to authorize billing and expedited mailing of the copies. You can also use Order Online! (http://www.archives.gov/research_room/obtain_copies/military_and_genealogy_order_forms.html) to complete the forms and order the copies.

Dated: June 11, 2014.
Swarnali Haldar,
Acting Executive for Information Services/CIO.

[FR Doc. 2014-14277 Filed 6-18-14; 8:45 am]

BILLING CODE 7515-01-P